DEPARTMENT OF COMMERCE

National Oceanic and Atmospheric Administration

[I.D. 022806F]

Endangered Species; File No. 1518-01

AGENCY: National Marine Fisheries Service (NMFS), National Oceanic and Atmospheric Administration (NOAA), Commerce.

ACTION: Notice; issuance of permit modification.

SUMMARY: Notice is hereby given that Carlos Diez, Departamento de Recursos Naturales y Abmientales de Puerto Rico, P.O. Box 9066600, San Juan, Puerto Rico 00906-6600 has been issued a modification to scientific research Permit No.1518.

ADDRESSES: The modification and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Patrick Opay or Kate Swails, (301)713-2289.

SUPPLEMENTARY INFORMATION: On October 27, 2005, notice was published in the Federal Register (70 FR 61940) that a modification of Permit No. 1518, issued August 8, 2005 (70 FR 47813), had been requested by the above-named individual. The requested modification has been granted under the authority of the Endangered Species Act of 1973, as amended (ESA; 16 U.S.C. 1531 et seq.) and the regulations governing the taking, importing, and exporting of endangered and threatened species (50 CFR 222-226).

Permit No. 1518 currently authorizes the permit holder to study green and hawksbill sea turtles. The purpose of the research is to identify marine habitat, determine distribution and abundance, determine sex ratios, evaluate the extent of ingestion of marine debris, determine growth rates and sexual maturity, and quantify threats. Mr. Diez is currently authorized to annually capture up to 320 hawksbill and 250 green sea turtles by hand or entanglement net. All turtles are measured, weighed, tagged, and blood sampled. A subset of animals are lavaged and have transmitters attached to them. One leatherback sea turtle could be incidentally captured during the course of the studies but would be released alive. The permit modification allows the permit holder to skin biopsy 190 green and hawksbill sea turtles. Under this modification a subset of 10 green turtles will undergo fibropapillomatosis tumor removal surgery and subsequent rehabilitation. Turtles that have severe tumors and are in extremely poor health would be euthanized. The applicant does not expect that more than two turtles would require euthanasia. The goal of the additional research will be to create baseline parameters of health assessments, determine groups' heterogenity and dispersal, and provide insight into the pathogenesis of the disease in the wild through the use of long-term capture and release surveys.

Issuance of this modification, as required by the ESA was based on a finding that such permit (1) was applied for in good faith, (2) will not operate to the disadvantage of any endangered or threatened species, and (3) is consistent with the purposes and policies set forth in section 2 of the ESA.

Dated: March 16, 2006.
Stephen L. Leathery,
Chief, Permits, Conservation and Education Division, Office of Protected Resources, National Marine Fisheries Service.

[FR Doc. E6-4156 Filed 3-21-06; 8:45 am]

BILLING CODE 3510-22-S